DEPARTMENT OF HOMELAND SECURITY

Coast Guard

[Docket No. USCG-2020-0048]

National Offshore Safety Advisory Committee; Meeting Cancellation

AGENCY: U.S. Coast Guard, Department of Homeland Security.

ACTION: Notice of federal advisory committee meeting; cancellation.

SUMMARY: On February 6, 2020 (85 FR 25, Page 6962), the U.S. Coast Guard published a notice that announced a meeting of the National Offshore Safety Advisory Committee, which was scheduled to take place on March 24th and March 25th 2020. The Coast Guard is publishing this notice to announce that this federal advisory committee meeting has been cancelled and will be rescheduled at a later date. The rescheduled meetings will be announced in the Federal Register.

FOR FURTHER INFORMATION CONTACT: Commander Myles Greenway, Designated Federal Officer of the National Offshore Safety Advisory Committee, Commandant (CG-OES-2), U.S. Coast Guard, 2703 Martin Luther King Jr. Avenue SE, Stop 7509, Washington, DC 20593-7509; telephone (202) 372-1410, fax (202) 372-8382 or email: Myles.J.Greenway@uscg.mil, or Mr. Patrick Clark, telephone (202) 372-1358, or email patrick.w.clark@uscg.mil.

Dated: March 11, 2020.
Jeffrey G. Lantz,
Director of Commercial Regulations and Standards.

[FR Doc. 2020-05599 Filed 3-17-20; 8:45 am]

BILLING CODE 9110-04-P